DEPARTMENT OF ENERGY

Federal Energy Regulatory Commission

[Docket No. CP04-49-000]

Dominion Transmission, Inc.; Notice of Intent To Prepare an Environmental Assessment for the Proposed Fink Capacity Maintenance Project and Request for Comments on Environmental Issues and Notice of Site Visit

January 16, 2004.

The staff of the Federal Energy Regulatory Commission (FERC or Commission) will prepare an environmental assessment (EA) that will discuss the environmental impacts of the Fink Capacity Maintenance Project involving construction and operation of facilities by Dominion Transmission, Inc. (DTI) in the Fink Storage Field in Lewis County, West Virginia.¹ These facilities would consist of about 8.6 miles of various diameter pipeline and a launcher and receiver. This EA will be used by the Commission in its decision-making process to determine whether the project is in the public convenience and necessity.

¹ DTI's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with State law.

A fact sheet prepared by the FERC entitled “An Interstate Natural Gas Facility On My Land? What Do I Need To Know?” was attached to the project notice DTI provided to landowners. This fact sheet addresses a number of typically asked questions, including the use of eminent domain and how to participate in the Commission's proceedings. It is available for viewing on the FERC Internet Web site (www.ferc.gov).

Summary of the Proposed Project

DTI proposes to protect the storage operation from migration of gas beyond the storage pool (Fink, Kennedy, and Lost Creek storage reservoirs [FKLC]) by expanding the active reservoir boundary and adding a protective boundary around the active storage pool boundary and control and capture storage gas moving from the FKLC gas storage pool into the Fink Oil Field. DTI proposes to accomplish this by converting 15 oil field wells to active storage withdrawal use only and connecting them to the existing Sweeney Compressor Station for recycling operation. DTI is not seeking to change either the capacity or the deliverability of the Fink Storage Field. DTI proposes to construct project facilities and activities over a phased period from 2004 through 2006:

• Retest 1,010 feet of an existing 20-inch-diameter line (TL-344) connecting to the existing Sweeney Compressor Station;

• Install and test two 6-inch-diameter well lines totaling about 1,850 feet;

• Install and test about 26,350 feet of 12-inch-diameter line (TL-343);

• Replace and test 18 existing well pipelines (about 9,750 feet of 4-inch-diameter line and about 6,600 feet of 6-inch-diameter line to be replaced with a 16,350-foot of 6-inch-diameter line);

• Utilize one pipe yard;

• Construct two launcher/receiver sites;

• Convert 15 wells to active storage use; and

• Expand the boundary of the storage reservoir by a total of about 3,163 acres in 7 areas.

DTI indicates that it would also install appurtenant facilities pursuant to section 2.55(a) of the Commission's regulations, and 12 1-inch-diameter lines on behalf of consumers under the Commission's part 157 pipeline blanket certificate authorized in Docket No. CP82-537-000. DTI indicates that it would at the request of a landowner abandon and remove about 1,340 feet of line H-19529 associated with an existing oil well. DTI indicates that this activity is not subject to the Commission's jurisdiction.

DTI indicates that the project would “protect the Fink storage operation from both migration of storage gas beyond the storage pool boundaries and third party drilling encroachment, by expanding the active reservoir boundary and adding a protective boundary around the active storage pool.”

The location of the project facilities is shown in appendix 1.²

² The appendices referenced in this notice are not being printed in the Federal Register. Copies of all appendices, other than appendix 1 (maps), are available on the Commission's Web site at the “eLibrary” link or from the Commission's Public Reference and Files Maintenance Branch, 888 First Street, NE., Washington, DC 20426, or call (202) 502-8371. For instructions on connecting to eLibrary refer to the last page of this notice. Copies of the appendices were sent to all those receiving this notice in the mail.

Land Requirements for Construction

Construction of the proposed facilities would disturb about 77.2 acres of land. Following construction, about 1.0 acre would be maintained as new aboveground facility sites.

The EA Process

The National Environmental Policy Act (NEPA) requires the Commission to take into account the environmental impacts that could result from an action whenever it considers the issuance of a Certificate of Public Convenience and Necessity. NEPA also requires us³ to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils;

• Land use;

• Water resources, fisheries, and wetlands;

• Cultural resources;

• Vegetation and wildlife;

• Air quality and noise;

• Endangered and threatened species;

• Hazardous waste;

• Public safety.

We will also evaluate possible alternatives to the proposed project or portions of the project, and make recommendations on how to lessen or avoid impacts on the various resource areas.

Our independent analysis of the issues will be in the EA. Depending on the comments received during the scoping process, the EA may be published and mailed to Federal, State, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by DTI. This preliminary list of issues may be changed based on your comments and our analysis.

• Blasting may be required in areas of the project.

• Five water wells would be located within 150 feet of the work areas.

• Residents may be affected by noise from completion work required for 15 well conversions.

• Crossing 51 perennial and 3 intermittent waterbodies, including Dry Fork, Wolf Run, Straight Run, and Fink Creek.

• Disturbing less than 0.3 acre of wetlands.

• Disturbing about 22 acres of forested land, 7.1 acres of which would be permanently converted to scrub/shrub or open land.

• Crossing potential habitat for the Indiana bat.

Also, we have made a preliminary decision to not address the impacts of the nonjurisdictional facilities. We will briefly describe their location and status in the EA.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP04-49-000.

• Mail your comments so that they will be received in Washington, DC on or before February 17, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

If you do not want to send comments at this time but still want to remain on our mailing list, please return the Information Request (appendix 4). If you do not return the Information Request, you will be taken off the mailing list.

Notice of Site Visit

The OEP staff will conduct a site visit on February 3, 2004, and if needed February 4, 2004, to inspect DTI's proposed route and potential alternative routes for the Fink Capacity Maintenance Project. The areas will be inspected by automobile. Representatives of DTI will accompany the OEP staff. Anyone interested in participating in the site visit should meet at Jackson's Mill Assembly Hall, Jackson Mill Road, Weston, West Virginia 26452, at 12 p.m. Participants must provide their own transportation.

For additional information, contact the Commission's Office of External Affairs at 1-866-208-FERC.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to rule 214 of the Commission's rules of practice and procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in appendix 3, to express their interest in becoming cooperating agencies for the preparation of the EA.

Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance with eLibrary, contact FERC On Line Support at 1-866-208-3676, TTY (202) 502-8659, or at FERCOnlineSupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information.

Linda Mitry,
Acting Secretary.

[FR Doc. E4-106 Filed 01-23-04; 8:45 am]

BILLING CODE 6717-01-P